INTERNATIONAL TRADE COMMISSION

[Investigation No. 731-TA-527 (Review)]

Extruded Rubber Thread From Malaysia

Determination

On the basis of the record ¹ developed in the subject five-year review, the United States International Trade Commission determines, pursuant to section 751(c) of the Tariff Act of 1930 (19 U.S.C. 1675(c)) (the Act), that revocation of the antidumping duty order on extruded rubber thread from Malaysia would likely to lead to continuation or recurrence of material injury to an industry in the United States within a reasonably foreseeable time.

¹ The record is defined in sec. 207.2(f) of the Commission's Rules of Practice and Procedure (19 CFR § 207.2(f)).

Background

The Commission instituted this review on August 2, 1999 (64 FR 41954) and determined on November 4, 1999 that it would conduct a full review (64 FR 62689, November 17, 1999 ). Notice of the scheduling of the Commission's review and of a public hearing to be held in connection therewith was given by posting copies of the notice in the Office of the Secretary, U.S. International Trade Commission, Washington, DC, and by publishing the notice in the Federal Register on January 20, 2000 (65 F.R. 3246). The hearing was held in Washington, DC, on June 1, 2000, and all persons who requested the opportunity were permitted to appear in person or by counsel.

The Commission transmitted its determinations in this investigation to the Secretary of Commerce on July 27, 2000. The views of the Commission are contained in USITC Publication 3327 (July 2000), entitled Extruded Rubber Thread from Malaysia (Inv. No. 731-TA-527 (Review)).

Issued: July 27, 2000.
By order of the Commission.
Donna R. Koehnke,
Secretary.

[FR Doc. 00-19570 Filed 8-1-00; 8:45 am]

BILLING CODE 7020-02-P